DEPARTMENT OF COMMERCE

International Trade Administration

[C-570-017]

Certain Passenger Vehicle and Light Truck Tires From the People's Republic of China: Countervailing Duty Administrative Review, Correction of Notification of Rescission, in Part, 2017

AGENCY: Enforcement and Compliance, International Trade Administration, Department of Commerce.

SUMMARY: The Department of Commerce (Commerce) is correcting the rescission, in part, of the countervailing duty administrative review of passenger vehicle and light truck tires (passenger tires) from the People's Republic of China (China) for the period of review (POR) January 1, 2017, through December 31, 2017.

DATES: Applicable November 1, 2019.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION: On October 18, 2019, Commerce published the Preliminary Results of the 2017 countervailing duty administrative review of passenger tires from China.¹ In the Federal Register notice, Commerce inadvertently included eight companies which had timely withdrawn their requests for review,² in accordance with 19 CFR 351.213(d)(1), in the list of non-selected companies under review. These companies are: Riversun Industry Limited, Haohua Orient International Trade Ltd., Windforce Tyre Co., Limited, Tyrechamp Group Co., Limited, Macho Tire Corporation Limited, Qingdao Lakesea Tyre Co., Ltd., Fleming Limited, and Safe & Well (HK) International Trading Limited. This notice serves as a correction that we have rescinded the review of these eight companies. For the corrected list of non-selected companies under review, see the Appendix to this notice.

¹ See Certain Passenger Vehicle and Light Truck Tires from the People's Republic of China: Preliminary Results of Countervailing Duty Administrative Review and Rescission, in Part, 2017, 84 FR 55913 (October 18, 2019) and accompanying Preliminary Decision Memorandum.

² See Letter from Riversun Industry Limited, Haohua Orient International Trade Ltd., Windforce Tyre Co., Limited, Tyrechamp Group Co., Limited, Macho Tire Corporation Limited, Qingdao Lakesea Tyre Co., Ltd., Fleming Limited, and Safe & Well (HK) International Trading Limited, “Passenger Vehicle and Light Truck Tires from the People's Republic of China-Withdrawal of Request for Review,” dated November 2, 2018. We did not receive any other requests for review of the above referenced companies.

This correction to the Federal Register notice is issued and published in accordance with sections 751(a)(1) and 777(i)(1) of the Tariff Act of 1930, as amended.

Dated: October 24, 2019.
Jeffrey I. Kessler,
Assistant Secretary for Enforcement and Compliance.

Appendix

Non-Selected Companies Under Review

1. Anhui Jichi Tire Co., Ltd.

2. Bridgestone (Tianjin) Tire Co., Ltd.

3. Bridgestone Corporation

4. Dynamic Tire Corp.

5. Hankook Tire China Co., Ltd.

6. Husky Tire Corp.

7. Jiangsu Hankook Tire Co., Ltd.

8. Mayrun Tyre (Hong Kong) Limited

9. Qingdao Fullrun Tyre Corp., Ltd.

10. Qingdao Sunfulcess Trye Co., Ltd.

11. Sailun Jinyu Group Co., Ltd.

12. Sailun Jinyu Group (Hong Kong) Co., Limited

13. Sailun Tire International Corp.

14. Seatex International Inc.

15. Seatex PTE. Ltd.

16. Shandong Achi Tyres Co., Ltd.

17. Shandong Anchi Tyres Co., Ltd.

18. Shandong Duratti Rubber Corporation Co., Ltd.

19. Shandong Haohua Tire Co., Ltd.

20. Shandong Hengyu Science & Technology Co., Ltd.

21. Shandong Jinyu Industrial Co., Ltd.

22. Shandong Province Sanli Tire Manufactured Co., Ltd.

23. Shandong Wanda Boto Tyre Co., Ltd.

24. Triangle Tyre Co., Ltd.

25. Winrun Tyre Co., Ltd.

[FR Doc. 2019-23899 Filed 10-31-19; 8:45 am]

BILLING CODE 3510-DS-P